DEPARTMENT OF ENERGY

Federal Energy Regulatory Commission

Combined Notice of Filings #2

Take notice that the Commission received the following electric rate filings:

Docket Numbers: ER10-3203-004.

Applicants: J. Aron & Company.

Description: Notice of Non-Material Change in Status of J. Aron & Company.

Filed Date: 7/1/16.

Accession Number: 20160701-5346.

Comments Due: 5 p.m. ET 7/22/16.

Docket Numbers: ER16-1649-003.

Applicants: California Independent System Operator Corporation.

Description: Compliance filing: 2016-07-01 Petition for Ltd Waiver to be effective N/A.

Filed Date: 7/1/16.

Accession Number: 20160701-5281.

Comments Due: 5 p.m. ET 7/15/16.

Docket Numbers: ER16-1888-001.

Applicants: Tidal Energy Marketing Inc.

Description: Tariff Amendment: Baseline Amendment to be effective 8/6/2016.

Filed Date: 7/5/16.

Accession Number: 20160705-5165.

Comments Due: 5 p.m. ET 7/19/16.

Docket Numbers: ER16-2133-000.

Applicants: Midcontinent Independent System Operator, Inc.

Description: Section 205(d) Rate Filing: 2016-07-05_SA 2739 ATC-UPPCo 1st Rev. Project Service Agreement to be effective 9/4/2016.

Filed Date: 7/5/16.

Accession Number: 20160705-5158.

Comments Due: 5 p.m. ET 7/26/16.

Docket Numbers: ER16-2134-000.

Applicants: PJM Interconnection, L.L.C.

Description: Section 205(d) Rate Filing: Service Agreement No. 4489, Queue Position AA1-116/AA1-117 to be effective 6/2/2016.

Filed Date: 7/5/16.

Accession Number: 20160705-5166.

Comments Due: 5 p.m. ET 7/26/16.

Docket Numbers: ER16-2135-000.

Applicants: Terrapin Energy LLC.

Description: Baseline eTariff Filing: Application for Market Based Rate to be effective 9/1/2016.

Filed Date: 7/6/16.

Accession Number: 20160706-5001, 20160706-5092.

Comments Due: 5 p.m. ET 7/27/16.

Docket Numbers: ER16-2136-000.

Applicants: Southwest Power Pool, Inc.

Description: Section 205(d) Rate Filing: 3203 KCP&L GMO and City of Osceola, MO Interconnection Agreement to be effective 7/5/2016.

Filed Date: 7/6/16.

Accession Number: 20160706-5028.

Comments Due: 5 p.m. ET 7/27/16.

Docket Numbers: ER16-2137-000.

Applicants: ISO New England Inc.

Description: ISO New England Inc. Resource Termination—Enerwise Global Technologies, Inc.

Filed Date: 7/1/16.

Accession Number: 20160701-5347.

Comments Due: 5 p.m. ET 7/22/16.

Docket Numbers: ER16-2138-000.

Applicants: AEP Texas North Company.

Description: Section 205(d) Rate Filing: TNC (WTU)—Indian Mesa Power Partners I & II Cancellation to be effective 5/27/2016.

Filed Date: 7/6/16.

Accession Number: 20160706-5035.

Comments Due: 5 p.m. ET 7/27/16.

Docket Numbers: ER16-2139-000.

Applicants: AEP Texas North Company.

Description: Section 205(d) Rate Filing: TNC-Duke Energy Renewables Solar I Interconnection Agreement First Amd & Restate to be effective 6/14/2016.

Filed Date: 7/6/16.

Accession Number: 20160706-5036.

Comments Due: 5 p.m. ET 7/27/16.

Docket Numbers: ER16-2140-000.

Applicants: Arizona Public Service Company.

Description: Section 205(d) Rate Filing: Rate Schedule No. 286—Participant Services Agreement with 4CA to be effective 9/5/2016.

Filed Date: 7/6/16.

Accession Number: 20160706-5061.

Comments Due: 5 p.m. ET 7/27/16.

Docket Numbers: ER16-2141-000.

Applicants: El Paso Electric Company.

Description: Notice of Cancellation of Rate Schedules Nos. 21, 22 and 65 of El Paso Electric Company.

Filed Date: 7/5/16.

Accession Number: 20160705-5210.

Comments Due: 5 p.m. ET 7/26/16.

Take notice that the Commission received the following electric securities filings:

Docket Numbers: ES16-41-000.

Applicants: Ameren Illinois Company.

Description: Application of Ameren Illinois Company for Authorization under Federal Power Act Section 204.

Filed Date: 7/5/16.

Accession Number: 20160705-5197.

Comments Due: 5 p.m. ET 7/26/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 6, 2016.
Nathaniel J. Davis, Sr.,
Deputy Secretary.

[FR Doc. 2016-16388 Filed 7-11-16; 8:45 am]

BILLING CODE 6717-01-P